ENVIRONMENTAL PROTECTION AGENCY

40 CFR Part 52

[EPA-R06-OAR-2009-0594; FRL-9909-56-Region 6]

Approval and Promulgation of Implementation Plans; States of Arkansas and Louisiana; Clean Air Interstate Rule State Implementation Plan Revisions

AGENCY: Environmental Protection Agency (EPA).

ACTION: Direct final rule.

SUMMARY: The Environmental Protection Agency (EPA) is taking a direct final action to approve revisions submitted to the applicable State Implementation Plans (SIPs) addressing the requirements of EPA's Clean Air Interstate Rule (CAIR) for Arkansas and Louisiana. EPA is approving revisions to the CAIR NOX Ozone Season allocation methodology submitted by the State of Arkansas as revisions to the Arkansas SIP on September 16, 2009. EPA is also approving revisions to the CAIR NOX Annual and Ozone Season Abbreviated SIP for the annual and ozone season NOX allocation methodologies and the CAIR SO2 SIP submitted by the State of Louisiana as revisions to the Louisiana SIP on July 1, 2009. EPA has evaluated the CAIR SIP revisions for Arkansas and Louisiana and determined these revisions to be consistent with the requirements of CAIR and the Clean Air Act (Act or CAA). This action is being taken under section 110 of the Act.

DATES: This direct final rule is effective on June 16, 2014 without further notice, unless EPA receives relevant adverse comment by May 19, 2014. If EPA receives such comment, EPA will publish a timely withdrawal in the Federal Register informing the public that this rule will not take effect.

ADDRESSES: Submit your comments, identified by Docket ID No. EPA-R06-OAR-2009-0594, by one of the following methods:

(1) www.regulations.gov: Follow the on-line instructions.

(2) Email: Ms. Adina Wiley at wiley.adina@epa.gov.

(3) Mail or Delivery: Ms. Adina Wiley, Air Permits Section (6PD-R), Environmental Protection Agency, 1445 Ross Avenue, Suite 1200, Dallas, Texas 75202-2733.

Instructions: Direct your comments to Docket ID No. EPA-R06-OAR-2009-0594. EPA's policy is that all comments received will be included in the public docket without change and may be made available online at http://www.regulations.gov, including any personal information provided, unless the comment includes information claimed to be Confidential Business Information (CBI) or other information the disclosure of which is restricted by statute. Do not submit information through http://www.regulations.gov or email, if you believe that it is CBI or otherwise protected from disclosure. The http://www.regulations.gov Web site is an “anonymous access” system, which means that EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment along with any disk or CD-ROM submitted. If EPA cannot read your comment due to technical difficulties and cannot contact you for clarification, EPA may not be able to consider your comment. Electronic files should avoid the use of special characters and any form of encryption and should be free of any defects or viruses. For additional information about EPA's public docket, visit the EPA Docket Center homepage at http://www.epa.gov/epahome/dockets.htm.

Docket: The index to the docket for this action is available electronically at www.regulations.gov and in hard copy at EPA Region 6, 1445 Ross Avenue, Suite 700, Dallas, Texas. While all documents in the docket are listed in the index, some information may be publicly available only at the hard copy location (e.g., copyrighted material), and some may not be publicly available at either location (e.g., CBI). To inspect the hard copy materials, please schedule an appointment with the person listed in the FOR FURTHER INFORMATION CONTACT paragraph below or Mr. Bill Deese at 214-665-7253.

FOR FURTHER INFORMATION CONTACT: If you have questions concerning today's direct final action, please contact Ms. Adina Wiley (6PD-R), Air Permits Section, Environmental Protection Agency, Region 6, 1445 Ross Avenue (6PD-R), Suite 1200, Dallas, Texas 75202-2733, telephone (214) 665-2115; email address wiley.adina@epa.gov.

SUPPLEMENTARY INFORMATION: Throughout this document wherever “we,” “us,” or “our” is used, we mean the EPA.

Table of Contents

I. Regulatory History of CAIR

II. General Requirements of CAIR

III. Analysis of the Arkansas September 16, 2009, CAIR SIP Revision

IV. Analysis of the Louisiana July 1, 2009, CAIR SIP Revision

V. Final Action

VI. Statutory and Executive Order Reviews

I. Regulatory History of CAIR

EPA published CAIR on May 12, 2005 (70 FR 25162). In CAIR, EPA determined that 28 states and the District of Columbia contribute significantly to nonattainment and interfere with maintenance of the 1997 national ambient air quality standards (NAAQS) for fine particles (PM2.5) and/or the 1997 8-hour ozone NAAQS in downwind states in the eastern part of the country. As a result, EPA required those upwind states to revise their SIPs to include control measures that reduce emissions of sulfur dioxide (SO2), which is a precursor to PM2.5 formation, and/or nitrogen oxides (NOX), which is a precursor to both ozone and PM2.5 formation. For jurisdictions that contribute significantly to downwind PM2.5 nonattainment, CAIR sets annual state-wide emission reduction requirements (i.e., budgets) for SO2 and NOX. Similarly, for jurisdictions that contribute significantly to 8-hour ozone nonattainment, CAIR sets state-wide emission budgets for NOX for the ozone season (May 1st to September 30th). Under CAIR, states may implement these reduction requirements by participating in the EPA-administered cap-and-trade programs or by adopting any other control measures.

Additionally, on April 28, 2006, EPA published two additional CAIR-related final rules that added the states of Delaware and New Jersey to the list of states subject to CAIR for 1997 PM2.5 and announced EPA's final decisions on reconsideration of five issues, without making any substantive changes to the CAIR requirements. On October 19, 2007, EPA amended CAIR to clarify the definition of “cogeneration unit” and, thus, the applicability of the CAIR trading program to cogeneration units.

EPA was sued by a number of parties on various aspects of CAIR, and on July 11, 2008, the D.C. Circuit Court found CAIR unlawful. North Carolina v. EPA, 531 F.3d 896 (D.C. Cir. 2008). The Court's original decision vacated CAIR. Id. at 929-30. However, the Court subsequently remanded CAIR to EPA without vacatur because it found that allowing CAIR to remain in effect until it is replaced would preserve the environmental values covered by CAIR. On August 8, 2011, EPA finalized its Cross State Air Pollution Rule (CSAPR) (Transport Rule) intended to replace the remanded CAIR. However, on August 21, 2012, the D.C. Circuit issued a decision vacating the Transport Rule. EME Homer City Generation, L.P. v. EPA, 696 F.3d 7 (D.C. Cir. 2012). The Court again ordered EPA to continue implementing CAIR in the interim pending promulgation of a replacement rule. Subsequently, the Supreme Court granted the United States' petition for certiorari and agreed to review the D.C. Circuit's decision in EME Homer City, and held oral arguments on December 10, 2013. A decision is currently pending. In the meantime, EPA intends to act in accordance with the D.C. Circuit's instruction in EME Homer City to continue implementing CAIR. CAIR requirements are in place, its regional control programs are operating while EPA develops replacement rules in response to the pertinent court decisions, and CAIR requirements remain in effect for Arkansas and Louisiana. The instant actions have no impact on the legal status of CAIR or CSAPR.

II. General Requirements of CAIR

CAIR establishes State-wide emission budgets for SO2 and NOX and is to be implemented in two phases. The first phase of NOX reductions started in 2009 and continues through 2014, while the first phase of SO2 reductions started in 2010 and continues through 2014. The second phase of reductions for both NOX and SO2 starts in 2015 and continues thereafter. CAIR requires States to implement the budgets by either: (1) requiring EGUs to participate in the EPA-administered cap-and-trade programs; or (2) adopting other control measures of the State's choosing and demonstrating that such control measures will result in compliance with the applicable State SO2 and NOX budgets.

The May 12, 2005 and April 28, 2006, CAIR rules provide model rules that States must adopt (with certain limited changes, if desired) if they want to participate in the EPA-administered trading programs. With two exceptions, only States that choose to meet the requirements of CAIR through methods that exclusively regulate EGUs are allowed to participate in the EPA-administered trading programs. One exception is for States that adopt the opt-in provisions of the model rules to allow non-EGUs individually to opt into the EPA-administered trading programs. The other exception applies to States that choose to include all non-EGUs from their NOX SIP Call trading programs in their CAIR NOX ozone season trading programs.¹

¹ Arkansas and Louisiana did not adopt opt-in provisions in the original CAIR SIP submittals. Arkansas and Louisiana are not subject to the NOX SIP Call. Therefore, the Arkansas and Louisiana CAIR regulations only pertain to EGUs.

States have the flexibility to choose the type of control measures they use to meet the requirements of CAIR. EPA anticipated that most States would choose to meet the CAIR requirements by selecting an option that requires EGUs to participate in the EPA-administered CAIR cap-and-trade programs. For such States, EPA provides two approaches for submitting and obtaining approval for CAIR SIP revisions. States may submit full SIP revisions that adopt the model CAIR cap-and-trade rules. If approved, these SIP revisions fully replace the CAIR FIPs. Alternatively, States may submit abbreviated SIP revisions. These SIP revisions do not replace the CAIR FIPs; however, the CAIR FIPs provide that, when approved, the provisions in these abbreviated SIP revisions be used instead of or in conjunction with, as appropriate, the corresponding provisions of the CAIR FIPs (e.g., the NOX allowance allocation methodology).

III. Analysis of the Arkansas September 16, 2009, CAIR SIP Revision

EPA approved the Arkansas CAIR NOX Ozone Season SIP on September 26, 2007, as fully implementing the requirements of the CAIR NOX Ozone Season Program by requiring certain EGUs to participate in the EPA-administered CAIR cap-and-trade program for NOX ozone season emissions. See 72 FR 54556. Subsequent to our full approval of the Arkansas CAIR NOX ozone season SIP and the withdrawal of the CAIR NOX ozone season FIP for Arkansas, the Arkansas Department of Environmental Quality (ADEQ) submitted on September 16, 2009, one revision to the Arkansas SIP for the CAIR NOX Ozone Season program. The September 16, 2009, SIP submittal includes revisions to the CAIR NOX Ozone Season incorporation by reference dates at Regulation 19.1401 and the allocation methodology at Regulation 19.1404 adopted by the Arkansas Pollution Control and Ecology Commission on December 5, 2008 and June 26, 2009. Because we have already approved the underlying Arkansas CAIR NOX ozone season program as satisfying the minimum requirements of CAIR, EPA will only evaluate the revisions submitted to the Arkansas CAIR NOX ozone season SIP.

A. Revisions to Regulation 19.1401

The ADEQ submitted a revision to the incorporation by reference date of the CAIR NOX Ozone Season program at Regulation 19.1401—Adoption of Regulations. In this section, the ADEQ incorporates the requirements of 40 CFR Part 96, Subparts AAAA—HHHH for the CAIR NOX Ozone Season Trading Program, as finalized by the EPA on May 12, 2005, and further revised on April 28, 2006, December 13, 2006 and October 19, 2007. EPA finds that the ADEQ correctly updated the CAIR applicability to address the revisions made to the definition of cogeneration units on October 19, 2007. EPA is approving this revision to the incorporation by reference date as consistent with the requirements of CAIR.

B. Revisions to Regulation 19.1404

The ADEQ submitted revisions to the Arkansas CAIR NOX Ozone Season allocation methodology at Regulation 19.1404—CAIR NOX Ozone Season Allowance Allocations. EPA has previously SIP-approved Regulation 19.1404 as replacing the federal allocation methodology at 40 CFR Part 96, Subpart EEEE. The underlying allocation methodology remains unchanged, but the ADEQ has adopted and submitted non-substantive revisions to update cross-references and abbreviations. EPA is approving these non-substantive revisions as necessary to improve clarity and functionality of the rule.

IV. Analysis of the Louisiana July 1, 2009, CAIR SIP Revision

A. Revisions to the Louisiana CAIR NOX Annual and NOX Ozone Season Abbreviated SIP

EPA approved the Louisiana CAIR NOX Annual and NOX Ozone Season Abbreviated SIP revision on September 28, 2007. See 72 FR 55064. In that action, we evaluated the NOX Annual and NOX Ozone Season allocation methodologies, found them to be consistent with the requirements of the CAIR NOX Annual and NOX Ozone Season programs, and determined that the Louisiana allocation methodology was sufficient to replace the CAIR NOX Annual and NOX Ozone Season FIP allocation methodologies.

Since our September 28, 2007 approval of the Louisiana abbreviated CAIR NOX Annual and NOX Ozone Season SIP revision, the LDEQ adopted and submitted on July 1, 2009, one revision to the Louisiana SIP to revise the NOX annual and NOX ozone season allocation methodologies at LAC 33:III.506.A and 506.B. Generally, the July 1, 2009, submittal updates the citations to address the October 19, 2007 revisions to CAIR for cogenerators; revises and adds definitions to the CAIR NOX annual and NOX ozone season allocation methodologies; and revises the allocation methodology provisions as a result of comments and experience to promote more equitable distribution of allowances specific to the Louisiana regulated EGUs.

1. Revisions to LAC 33:III.506.A—CAIR NOX Annual Program

The LDEQ submitted revisions to the CAIR NOX Annual Abbreviated SIP at LAC 33:III.506(A) Clean Air Interstate Rule Requirements—Nitrogen Oxide Annual Program. The LDEQ has revised the introductory paragraph to state that the requirements of 40 CFR Part 97, Subparts AA—HH for the CAIR NOX Annual Trading Program, as revised on October 19, 2007, continue to apply, except as modified by the Louisiana CAIR NOX Annual abbreviated SIP. The abbreviated SIP revision for NOX Annual Allocation methodology at LAC 33.III.506(A) will continue to replace the requirements at 40 CFR 97.141 and 97.142 regarding Timing Requirements for CAIR NOX Allowance Allocations and CAIR NOX Allowance Allocations. EPA finds that the LDEQ correctly updated the CAIR applicability to address the revisions made to the definition of cogeneration units on October 19, 2007. EPA is approving this revision to LAC 33:III.506(A) as consistent with the requirements of CAIR.

The LDEQ also submitted revisions to the Louisiana CAIR NOX Annual Allocation Methodology. These revisions are implemented through new and amended definitions applicable to the Louisiana CAIR NOX Annual program at LAC 33:III.506(A)(1) and the provisions establishing the allocation calculations at LAC 33:III.506(A)(2). Combined, these revisions modify the Louisiana CAIR NOX annual allocation methodology to distribute allowances to certified and utility units in a manner found to be more equitable by the state and add provisions to address allocations to repowered units. The submitted revisions did not revise any of the SIP-approved requirements for submittal of the allocations to EPA or revise the NOX Annual budget for Louisiana. EPA is approving these revisions because we find that the LDEQ has tailored the CAIR NOX Annual allocation methodology to be reflective of Louisiana-specific circumstances, as is the state's prerogative under the CAIR SIP provisions at 40 CFR 51.123(p)(1).

2. Revisions to LAC 33:III.506.B—CAIR NOX Ozone Season Program

The LDEQ submitted revisions to the incorporation by reference date of the CAIR NOX Ozone Season Abbreviated SIP at LAC 33:III.506(B) Clean Air Interstate Rule Requirements—Nitrogen Oxide Ozone Season Program. The LDEQ has revised the introductory paragraph to state that the requirements of 40 CFR Part 97, Subparts AAAA—HHHH for the CAIR NOX Ozone Season Trading Program, as revised on October 19, 2007, continue to apply, except as modified by the Louisiana CAIR NOX Ozone Season abbreviated SIP. The abbreviated SIP revision for NOX Ozone Season Allocation methodology at LAC 33.III.506(B) will continue to replace the requirements at 40 CFR 97.341 and 97.342 regarding Timing Requirements for CAIR NOX Ozone Season Allowance Allocations and CAIR NOX Ozone Season Allowance Allocations. EPA finds that the LDEQ correctly updated the CAIR applicability to address the revisions made to the definition of cogeneration units on October 19, 2007. EPA is approving this revision to LAC 33:III.506(B) as consistent with the requirements of CAIR.

The LDEQ also submitted revisions to the Louisiana CAIR NOX Ozone Season Allocation Methodology. These revisions are implemented through new and amended definitions applicable to the Louisiana CAIR NOX Ozone Season program at LAC 33:III.506(B)(1) and the provisions establishing the allocation calculations at LAC 33:III.506(B)(2). Combined, these revisions modify the Louisiana CAIR NOX ozone season allocation methodology to distribute allowances to certified and utility units in a manner found to be more equitable by the state and add provisions to address allocations to repowered units. The submitted revisions did not revise any of the SIP-approved requirements for submittal of the allocations to EPA or revise the NOX Ozone Season budget for Louisiana. EPA is approving these revisions because we find that the LDEQ has tailored the CAIR NOX Ozone Season allocation methodology to be reflective of Louisiana-specific circumstances, as is the state's prerogative under the CAIR SIP provisions at 40 CFR 51.123(ee)(2).

B. Revisions to the Louisiana CAIR SO2 Program

On July 20, 2007, EPA approved the Louisiana CAIR SO2 SIP as fully implementing the annual SO2 requirements of CAIR by requiring certain EGUs to participate in the EPA-administered CAIR cap-and-trade program for SO2 emissions. See 72 FR 39741.

1. Revisions to LAC 33:III.506.C—CAIR Annual SO2 Program

Subsequent to our full approval of the Louisiana CAIR SO2 SIP and the withdrawal of the CAIR SO2 FIP for Louisiana, the LDEQ submitted on July 1, 2009, a revision to the Louisiana SIP for the CAIR SO2 program. The July 1, 2009, SIP submittal updates the CAIR SO2 program incorporation by reference dates at LAC 33:III.506.C. In this section, the LDEQ incorporates by reference the CAIR SO2 program as published at 40 CFR Part 96 on July 1, 2007 and revised on October 19, 2007 at 72 FR 59190-59207. EPA finds that the LDEQ correctly updated the CAIR SO2 incorporation by reference dates to include the revisions made to the definition of cogeneration units on October 19, 2007. EPA is approving this revision to the incorporation by reference date as consistent with the requirements of CAIR.

V. Final Action

Under section 110 of the Act, and for the reasons stated above, EPA is taking direct final action to approve revisions to the Arkansas and Louisiana SIPs pertaining to CAIR. Specifically, EPA is approving revisions to the Arkansas CAIR NOX Ozone Season Program at Regulation 19.1401 and 19.1404 as adopted on December 5, 2008, and submitted as revisions to the Arkansas SIP on September 16, 2009. EPA is also approving revisions to the Louisiana CAIR NOX Annual and Ozone Season Program for the annual and ozone season NOX allocation methodologies at LAC 33:III.506 (A) and (B) and the Louisiana CAIR SO2 Program at LAC 33:III.506(C) adopted on June 20, 2008, by the State of Louisiana and submitted as revisions to the Louisiana SIP on July 1, 2009.

We are approving the revisions to the Arkansas and Louisiana SIPs under section 110 of the Act. We are publishing this rule without prior proposal because we view this as a noncontroversial amendment and anticipate no relevant adverse comments. However, in the proposed rules section of this Federal Register publication, we are publishing a separate document that will serve as the proposal to approve the SIP revision if relevant adverse comments are received. This rule will be effective on June 16, 2014 without further notice unless we receive relevant adverse comment by May 19, 2014. If we receive relevant adverse comments, we will publish a timely withdrawal in the Federal Register informing the public that the rule will not take effect. We will address all public comments in a subsequent final rule based on the proposed rule. We will not institute a second comment period on this action. Any parties interested in commenting must do so now. Please note that if we receive adverse comment on an amendment, paragraph, or section of this rule and if that provision may be severed from the remainder of the rule, we may adopt as final those provisions of the rule that are not the subject of an adverse comment.

VI. Statutory and Executive Order Reviews

Under the Clean Air Act, the Administrator is required to approve a SIP submission that complies with the provisions of the Act and applicable federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 16, 2014. Filing a petition for reconsideration by the Administrator of this final rule does not affect the finality of this action for the purposed of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Particulate matter, Reporting and recordkeeping requirements, Sulfur oxides.

Dated: April 2, 2014.
Samuel Coleman,
Acting Regional Administrator, Region 6.

40 CFR Part 52 is amended as follows:

PART 52—APPROVAL AND PROMULGATION OF IMPLEMENTATION PLANS

1. The authority citation for part 52 continues to read as follows:

Authority: 42 U.S.C. 7401 et seq.

Subpart E—Arkansas

2. In § 52.170(c), the table titled “EPA-Approved Regulations in the Arkansas SIP” is amended by revising the entries for Reg. 19.1401 and Reg 19.1404.

§ 52.170 Identification of plan.

* * * * *

(c) * * *

EPA-Approved Regulations in the Arkansas SIP
State citation | Title/Subject | State submittal/ effective date | EPA approval date | Explanation
* * * * * * *
Reg. 19.1401 | Adoption of Regulations | 9/16/2009 | 4/17/2014 [Insert FR page number where document begins]. |
* * * * * * *
Reg. 19.1404 | CAIR NOX Ozone Season Allowance Allocations | 9/16/2009 | 4/17/2014 [Insert FR page number where document begins]. |
* * * * * * *

* * * * *

Subpart T—Louisiana

3. In § 52.970(c), the table titled “EPA Approved Louisiana Regulations in the Louisiana SIP” is amended by revising the entries for Sections 506(A), 506(B), and 506(C).

§ 52.970 Identification of plan.

* * * * *

(c) * * *

EPA-Approved Louisiana Regulations in the Louisiana SIP
State citation | Title/Subject | State approval date | EPA approval date | Explanation
* * * * * * *
Section 506(A) | Clean Air Interstate Rule Requirements—Nitrogen Oxide Annual Program | 6/20/2008 | 4/17/2014 [Insert FR page number where document begins]
Section 506(B) | Clean Air Interstate Rule Requirements—Nitrogen Oxide Ozone Season Program | 6/20/2008 | 4/17/2014 [Insert FR page number where document begins]
Section 506(C) | Clean Air Interstate Rule Requirements—Annual Sulfur Dioxide | 6/20/2008 | 4/17/2014 [Insert FR page number where document begins]
* * * * * * *

* * * * *

[FR Doc. 2014-08647 Filed 4-16-14; 8:45 am]

BILLING CODE 6560-50-P